DEPARTMENT OF THE INTERIOR

Bureau of Reclamation

Lower Yuba River Accord, Yuba County, CA

AGENCY: Bureau of Reclamation, Interior.

ACTION: Notice of Intent to prepare an Environmental Impact Statement/Environmental Impact Report (EIS/EIR) and to hold public scoping meetings.

SUMMARY: Pursuant to the National Environmental Policy Act (NEPA) of 1969, as amended, the Bureau of Reclamation (Reclamation) proposes to participate and serve as the lead agency under NEPA in the preparation of a joint EIS/EIR on the Lower Yuba River Accord (Yuba Accord). The Yuba County Water Agency (YCWA), a local public water agency, is proposing the project and will serve as the lead agency under the California Environmental Quality Act (CEQA). The purpose of the Yuba Accord is to resolve instream flow issues associated with operation of the Yuba River Development Project (Yuba Project) in a way that protects and enhances lower Yuba River fisheries and local water-supply reliability, while providing revenues for local flood-control and water-supply projects, water for the CALFED Program to use for protection and restoration of Sacramento-San Joaquin Delta (Delta) fisheries, and improvements in state-wide water supply management, including supplemental water for the Central Valley Project (CVP) and the State Water Project (SWP).

This notice is published in accordance with NEPA regulations found in 40 CFR 1501.7. The purpose of this notice is to obtain suggestions and information from other agencies and the public on the scope of issues to be addressed in the EIS/EIR. A similar notice is being published by YCWA in accordance with CEQA. Comments and participation in the scoping process are encouraged.

DATES: Four public scoping meetings will be held on the following dates:

• July 19, 2005-1 p.m., Sacramento, CA

• July 19, 2005-6:30 p.m., Sacramento, CA

• July 20, 2005-1 p.m., Marysville, CA

• July 20, 2005-6:30 p.m., Marysville, CA

ADDRESSES: The public scoping meeting locations are:

• Sacramento—Doubletree Hotel, 2001 Point West Way, Sacramento, CA

• Marysville—Yuba County Government Center, 915 8th Street, Marysville, CA

Written comments on the scope of the Yuba Accord or issues to be addressed in the EIR/EIS must be received no later than August 4, 2005. Send written comments to Mary Grim, Bureau of Reclamation, 2800 Cottage Way, MP-400, Sacramento, CA 95825. Grim, Bureau of Reclamation, 2800 Cottage Way, MP-400, Sacramento, CA 95825.

FOR FURTHER INFORMATION CONTACT: Mary Grim, Environmental Specialist, Reclamation, at the above address; telephone number 916-978-5204.

SUPPLEMENTARY INFORMATION: YCWA is a public agency created and existing pursuant to the provisions of the Yuba County Water Agency Act of 1959. YCWA owns and operates the Yuba Project, which includes New Bullards Bar Dam and Reservoir on the North Yuba River. YCWA operates the Yuba Project in accordance with a Federal Energy Regulatory Commission License, flood control rules promulgated by the U.S. Army Corps of Engineers, state water rights permit terms, and an agreement with the California Department of Fish and Game (CDFG) for instream flows.

In March of 1991, CDFG released a “Lower Yuba River Fisheries Management Plan”, which contained recommendations regarding fishery protection and enhancement measures in the lower 24-mile section of the Yuba River. CDFG requested that the State Water Resources Control Board (SWRCB) consider modifying YCWA's water rights permits to implement the recommendations contained in CDFG's Plan. Based on CDFG's request, and to address various allegations raised by a coalition of non-governmental fisheries organizations (NGOs) against several water agencies in 1989 filings, the SWRCB initiated a proceeding to consider fishery protection and water right issues on the lower Yuba River in early 1992.

The SWRCB held hearings on these issues in 1992 and 2000. The SWRCB adopted Water Rights Decision 1644 (D-1644) on March 1, 2001. D-1644 established new instream flow requirements for the lower Yuba River in YCWA's water right permits, required YCWA to take actions to address potential concerns regarding water temperatures for Chinook salmon and steelhead, and required studies and consultation on various other issues.

YCWA, several local water districts in Yuba County, and a collective of fisheries NGOs all initiated legal actions challenging D-1644 on a variety of issues. After considering some new evidence, the court remanded D-1644 to the SWRCB for reconsideration in light of the new evidence. After a brief hearing in 2003, the SWRCB issued Revised Water Rights Decision 1644 (RD-1644), which contains only minor changes from D-1644. The same parties that had challenged D-1644 then initiated new legal proceedings challenging RD-1644 on most of the same issues.

Since RD-1644 was issued, the parties to the litigation and the state and Federal fisheries agencies have been engaged in a collaborative, interest-based initiative to try to resolve the flow and other fisheries issues on the lower Yuba River. The potential settlement has become known as the Yuba Accord. If implemented, the Yuba Accord would resolve issues associated with operation of the Yuba Project in a way that would protect and enhance lower Yuba River fisheries, protect local water supply reliability, provide revenues for local flood-control and water-supply projects, provide water for protection and restoration of Delta fisheries, and increase state-wide water supplies.

The Yuba Accord would include three major elements:

• The first element would be an agreement (Yuba Accord Fisheries Agreement) between YCWA, CDFG and the collective of NGOs, with the U.S. Fish and Wildlife Service (USFWS) and the National Oceanic and Atmospheric Administration, National Marine Fisheries Service supporting the agreement. Under the Yuba Accord Fisheries Agreement, YCWA would revise the operation of the Yuba Project to provide higher flows in the lower Yuba River to protect and enhance fisheries and to increase downstream water supplies.

• The second element of the Yuba Accord would be an agreement between YCWA and water districts within Yuba County (Yuba Accord Conjunctive Use Agreement) for the implementation of a comprehensive program of conjunctive use of surface water and groundwater supplies and actions to improve water use efficiencies.

• The third element would be an agreement between YCWA and the California Department of Water Resources (DWR) and Reclamation (Yuba Accord Transfer Agreement), which would put water released from the Yuba Project to beneficial uses through the Environmental Water Account and in the CVP and SWP service areas.

All three of these agreements would need to be in place for the Yuba Accord to be implemented.

The draft EIS/EIR will analyze the adverse and beneficial effects of implementing the Yuba Accord on surface water hydrology, groundwater hydrology, water supply, hydropower, flood control, water quality, fisheries, wildlife, vegetation, special-status species, recreation, visual, cultural and Indian Trust Assets, air quality, land use, socioeconomic, growth inducement, and environmental justice resources and conditions. Alternatives to be evaluated in the draft EIS/EIR include the No Action Alternative, Proposed Action Alternative, and others as appropriate. In addition, the draft EIS/EIR will address the cumulative impacts of implementation of the Yuba Accord in conjunction with other past, present, and reasonably foreseeable actions.

Our practice is to make comments on a Notice of Intent, including names and home addresses of respondents, available for public review. Individual respondents may request that we withhold their home addresses from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: June 10, 2005.
Frank Michny,
Regional Environmental Officer, Mid-Pacific Region.

[FR Doc. 05-11975 Filed 6-17-05; 8:45 am]

BILLING CODE 4310-MN-P